DEPARTMENT OF LABOR

Office of the Secretary

Agency Information Collection Activities; Submission for OMB Review; Comment Request; Trade Adjustment Assistance Community College and Career Training Grant Program Reporting Requirements

ACTION: Notice.

SUMMARY: The Department of Labor (DOL) is submitting the Employment and Training Administration (ETA) sponsored information collection request (ICR) proposal entitled “Trade Adjustment Assistance Community College and Career Training Grant Program Reporting Requirements” to the Office of Management and Budget (OMB) for review and approval for use in accordance with the Paperwork Reduction Act (PRA) of 1995 (44 U.S.C. 3501 et seq.).

DATES: Submit comments on or before February 13, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at (202) 693-4129 (this is not a toll-free number) or sending an email to DOL_PRA_PUBLIC@dol.gov.

Submit comments about this request to the Office of Information and Regulatory Affairs, Attn: OMB Desk Officer for the Department of Labor, Employment and Training Administration (ETA), Office of Management and Budget, Room 10235, Washington, DC 20503, Telephone: (202) 395-6929/Fax: (202) 395-6881 (these are not toll-free numbers), email: OIRA_submission@omb.eop.gov.

FOR FURTHER INFORMATION CONTACT: Contact Michel Smyth by telephone at (202) 693-4129 (this is not a toll-free number) or by email at DOL_PRA_PUBLIC@dol.gov.

SUPPLEMENTARY INFORMATION: This ICR is for approval to implement new reporting requirements for the Trade Adjustment Assistance Community College and Career Training (TAACCCT) grant program. The ETA will require grantees to submit Quarterly Progress Reports with a narrative summary of at least two progress measures and at least two implementation measures identified by the grantee in their project work plan. Every fourth quarter, grantees will be required to submit an Annual Performance Report with standardized outcome measures that will include aggregate data for program participants and a comparison cohort of participants for the following seven outcome measures: Entered employment rate, employment retention rate, average earnings, attainment of credits toward degree(s), attainment of certificate(s) (less than one year), attainment of certificate(s) (more than one year), and graduation rate for degree programs. These reports will help the ETA gauge the effects of the TAACCCT grants, identify grantees that could serve as useful models, and appropriately target technical assistance.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. For additional information, see the related notice published in the Federal Register on June 1, 2011 (76 FR 31639).

Interested parties are encouraged to send comments to the OMB, Office of Information and Regulatory Affairs at the address shown in the ADDRESSES section within 30 days of publication of this notice in the Federal Register. In order to help ensure appropriate consideration, comments should mention OMB ICR Reference Number 201110-1205-003. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Title of Collection: Trade Adjustment Assistance Community College and Career Training Grant Program Reporting Requirements.

OMB ICR Reference Number: 201110-1205-003.

Affected Public: Individuals or Households and Private Sector—Not-For-Profit Institutions.

Total Estimated Number of Respondents: 168,247.

Total Estimated Number of Responses: 336,644.

Total Estimated Annual Burden Hours: 23,620.

Total Estimated Annual Other Costs Burden: $0.

Dated: January 5, 2012.
Michel Smyth,
Departmental Clearance Officer.

[FR Doc. 2012-449 Filed 1-11-12; 8:45 am]

BILLING CODE 4510-FT-P